GENERAL SERVICES ADMINISTRATION

[Notice-MA-2023-06; Docket No. 2023-0002; Sequence No. 7]

Federal Travel Regulation (FTR); First Class and Business Class Transportation Reporting Requirements

AGENCY: Office of Government-wide Policy (OGP), General Services Administration (GSA).

ACTION: Notice of GSA Bulletin FTR 23-07, first class and business class transportation reporting requirements.

SUMMARY: FTR Bulletin 23-07 clarifies the information agencies are required to report on the authorized use of first class and business class transportation accommodations and how to determine the comparative coach class accommodations. This bulletin also rescinds FTR Bulletin 20-05.

DATES: Applicable: August 28, 2023.

FOR FURTHER INFORMATION CONTACT: For clarification of content, contact LaMan Dantzler J.D., Office of Government-wide Policy, Office of Asset and Transportation Management, at 202-615-5399 or travelpolicy@gsa.gov. Please cite Notice of GSA Bulletin FTR 23-07.

SUPPLEMENTARY INFORMATION: GSA amended the FTR by introducing premium economy airline accommodations as a class of service, creating management controls related to the use thereof, and changing the deadline for reporting the use of first class and business class transportation accommodations. This rule, titled “Common Carrier Transportation,” and published at 87 FR 55699, on September 12, 2022, did not change the requirement for agencies to report the use of all first class and business class transportation accommodations which exceed the coach class fare, nor did it change the requirement for agencies to report the use of extra-fare train service. However, since publishing 87 FR 55699, Common Carrier Transportation, GSA has received questions from agencies on how to determine the comparative cost of a coach class train fare when the use of an extra-fare train is authorized. In accordance with 41 CFR 300-70.101, FTR Bulletin 23-07 clarifies the information agencies are required to report on the authorized use of first class and business class transportation accommodations and how to determine the comparative coach class accommodations. This bulletin also rescinds FTR Bulletin 20-05, published at 85 FR 17890, on March 31, 2020.

GSA Bulletin FTR 23-07 can be viewed in its entirety at https://www.gsa.gov/ftrbulletins.

Krystal J. Brumfield,
Associate Administrator, Office of Government-wide Policy.

[FR Doc. 2023-18398 Filed 8-25-23; 8:45 am]

BILLING CODE 6820-14-P